DEPARTMENT OF COMMERCE

Foreign-Trade Zones Board

[B-51-2023]

Foreign-Trade Zone (FTZ) 29, Notification of Proposed Production Activity; Toyota Motor Manufacturing Kentucky, Inc.; (Dual Fuel Cell Modules); Georgetown, Kentucky

The Louisville & Jefferson County Riverport Authority, grantee of FTZ 29, submitted a notification of proposed production activity to the FTZ Board (the Board) on behalf of Toyota Motor Manufacturing Kentucky, Inc., located in Georgetown, Kentucky within Subzone 29E. The notification conforming to the requirements of the Board's regulations (15 CFR 400.22) was received on September 21, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product(s) and material(s)/component(s) would be added to the production authority that the Board previously approved for the operation, as reflected on the Board's website.

The proposed finished product is dual fuel cell modules (duty rate is 2.5%).

The proposed foreign-status materials and components include: plastic components (oil fill hose; wiring harness clamps; piping clamps; clamps; fuel tube clamps); rubber components (fuel cell radiator hoses; reserve tank inlet hoses; fuel cell radiator hose sub-assemblies; fuel cell inverter cooling hose sub-assemblies); stainless steel tubes; steel components (flange bolts with washers; mounts for air cleaners; flange bolts; bolts with washers; nuts; hose clips); various assemblies (fuel cell cooling water ion exchanger; air cleaner with filter element; fuel cell generator; fuel cell exhaust tail pipe); and, hydrogen detectors (duty rate ranges from duty-free to 8.5%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is November 8, 2023.

A copy of the notification will be available for public inspection in the “Online FTZ Information System” section of the Board's website.

For further information, contact Juanita Chen at juanita.chen@trade.gov.

Dated: September 25, 2023.
Elizabeth Whiteman,
Executive Secretary.

[FR Doc. 2023-21375 Filed 9-28-23; 8:45 am]

BILLING CODE 3510-DS-P